DEPARTMENT OF TRANSPORTATION

National Highway Traffic Safety Administration

[Docket No. NHTSA-2013-0133; Notice 2]

General Motors, LLC, Grant of Petition for Decision of Inconsequential Noncompliance

AGENCY: National Highway Traffic Safety Administration (NHTSA), Department of Transportation (DOT).

ACTION: Grant of petition.

SUMMARY: General Motors, LLC (GM) has determined that certain model year (MY) 2011, 2012 and 2013 Chevrolet Volt passenger cars sold with windshield sunshades as a “Limited Personalization Option,” do not fully comply with paragraph S4.3 of Federal Motor Vehicle Safety Standard (FMVSS) No. FMVSS 302, Flammability of Interior Materials. GM has filed an appropriate report dated August 27, 2013, pursuant to 49 CFR part 573, Defect and Noncompliance Responsibility and Reports.

ADDRESSES: For further information on this decision contact Mr. Mike Cole, Office of Vehicle Safety Compliance, the National Highway Traffic Safety Administration (NHTSA), telephone (202) 366-2334, facsimile (202) 366-5930.

SUPPLEMENTARY INFORMATION:

I. GM's Petition: Pursuant to 49 U.S.C. 30118(d) and 30120(h) and the rule implementing those provisions at 49 CFR part 556, GM has petitioned for an exemption from the notification and remedy requirements of 49 U.S.C. Chapter 301 on the basis that this noncompliance is inconsequential to motor vehicle safety.

Notice of receipt of the petition was published, with a 30-day public comment period, on January 21, 2014 in the Federal Register (79 FR 3471). No comments were received. To view the petition, and all supporting documents log onto the Federal Docket Management System (FDMS) Web site at: http://www.regulations.gov/. Then follow the online search instructions to locate docket number “NHTSA-2013-0133.”

II. Vehicles Involved: Affected are approximately 3,426 MY 2011, 2012 and 2013 Chevrolet Volt passenger cars that were manufactured from 12/14/2010 to 06/26/2013 and sold to retail customers with windshield sunshades as a “Limited Personalization Option.”

III. Noncompliance: GM explains that the noncompliance is that the subject vehicles were delivered as new vehicles to retail customers with windshield sunshades that do not meet the maximum burn rate requirement of paragraph S4.3 of FMVSS No. 302.

IV. Rule Text: Refer to the entire text of Paragraph S4 of FMVSS No. 302 for contextual restrictions as well as the specific requirements of subparagraph S4.3.

V. Summary of GM's Analyses: GM stated its belief that the subject noncompliance is inconsequential to motor vehicle safety for the following reasons:

a. When tested as a finished part (i.e., with the inner and outer layers tested as though they form a composite), the sunshade's burn rate of 35mm/minute is significantly less than the FMVSS No. 302 maximum burn rate of 102 mm/minute. The outer layer is composed of self-extinguishing material that meets all of the requirements of FMVSS No. 302. While the layers of the assembly are not bonded at every point of contact, they are held together and encased with FMVSS No. 302 compliant self-extinguishing trim and stitching around the entire perimeter of the sunshade. Additional double rows of stitching create vertical accordion fold lines in the sunshade. The stitching segments the inner layer into smaller pieces that are separated by double layers of the FMVSS No. 302 compliant self-extinguishing outer layer material.

b. Only the inner layer, by itself, does not meet the FMVSS No. 302 burn rate, and at 110 mm/minute, it is only marginally above the 102 mm/minute requirement.

c. The sunshade has a storage bag which is made of FMVSS No. 302 compliant material. When the sunshade is stored in the provided bag while the vehicle is in use, the external surface that is presented to the occupant compartment is well within the FMVSS requirement, and two layers of FMVSS No. 302 compliant material would have to be penetrated to reach the marginally noncompliant inner layer.

d. Even if the sunshade was not placed in its storage bag when not in use, the external surface that is presented to the occupant compartment is still FMVSS compliant, and this layer would still need to be penetrated to reach the marginally noncompliant inner layer. In addition, folding it alone reduces the sunshade's surface area to approximately one eighth of the unfolded surface area, further reducing the exposure to any potential ignition source.

e. GM stated its belief that the purpose of FMVSS No. 302 is “to reduce the deaths and injuries to motor vehicle occupants caused by vehicle fires, especially those originating in the interior of the vehicle from sources such as matches or cigarettes.” FMVSS No. 302, paragraph S2. The sunshade is designed to be used only when the vehicle is parked, and it is extremely unlikely that the inner layer would ever come in contact with an ignition source. As such, it is extremely unlikely that a vehicle occupant would ever be exposed to a risk of injury as a result of the noncompliance.

f. Because the sunshade is intended to help reduce sun load during hot weather conditions, it may be removed from the vehicle entirely during colder months, further reducing the exposure of the sunshade to the interior of the vehicle.

g. GM stated its belief that NHTSA has previously granted several inconsequential noncompliance petitions that GM believes can be applied to a decision on its petition. See GM's petition for a complete discussion of its reasoning.

h. There are no known field events involving ignition of sunshades. GM is not aware of any crashes, injuries or customer complaints involving this windshield sunshade.

GM has additionally informed NHTSA that it has corrected the noncompliance so that all future production vehicles delivered with windshield sunshades will comply with FMVSS No. 302.

In summation, GM believes that the described noncompliance of the subject vehicles is inconsequential to motor vehicle safety, and that its petition, to exempt from providing recall notification of noncompliance as required by 49 U.S.C. 30118 and remedying the recall noncompliance as required by 49 U.S.C. 30120 should be granted.

NHTSA Decision:

NHTSA Analysis: NHTSA agrees with GM that the noncompliant corrugated plastic material incorporated into the subject sunshades is unlikely to pose a flammability risk due to: the unlikelihood of exposure to an ignition source; the fact that the noncompliant material is fully encased by materials which comply with the flammability requirements of FMVSS No. 302; the fact that the sunshade is provided with a bag made of materials that comply with the flammability requirements of FMVSS No. 302 for storage of the sunshade when the vehicle is in use; and the fact that when tested separately the inner layer is only marginally above the 102 mm/minute requirement.

NHTSA Decision: In consideration of the foregoing, NHTSA has decided that GM has met its burden of persuasion that the FMVSS No. 302 noncompliance is inconsequential to motor vehicle safety. Accordingly, GM's petition is hereby granted and GM is exempted from the obligation of providing notification of, and a remedy for, that noncompliance under 49 U.S.C. 30118 and 30120.

NHTSA notes that the statutory provisions (49 U.S.C. 30118(d) and 30120(h)) that permit manufacturers to file petitions for a determination of inconsequentiality allow NHTSA to exempt manufacturers only from the duties found in sections 30118 and 30120, respectively, to notify owners, purchasers, and dealers of a defect or noncompliance and to remedy the defect or noncompliance. Therefore, this decision only applies to the subject noncompliant vehicles that GM no longer controlled at the time it determined that the noncompliance existed. However, the granting of this petition does not relieve vehicle distributors and dealers of the prohibitions on the sale, offer for sale, or introduction or delivery for introduction into interstate commerce of the noncompliant vehicles under their control after GM notified them that the subject noncompliance existed.

Authority: (49 U.S.C. 30118, 30120: delegations of authority at 49 CFR 1.95 and 501.8)

Jeffrey M. Giuseppe,
Acting Director, Office of Vehicle Safety Compliance.

[FR Doc. 2014-19603 Filed 8-18-14; 8:45 am]

BILLING CODE 4910-59-P